DEPARTMENT OF THE INTERIOR

Bureau of Land Management

[LLWY-957000-16-L13100000-PP0000]

Filing of Plats of Survey, Wyoming

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: WY957, Bureau of Land Management, 5353 Yellowstone Road, P.O. Box 1828, Cheyenne, Wyoming 82003.

SUPPLEMENTARY INFORMATION: These surveys were executed at the request of the Bureau of Land Management and U.S. Forest Service and are necessary for the management of resources. The lands surveyed are:

The plats and field notes representing the retracement of the Wyoming-South Dakota State Boundary between mile posts 65 and 69, the corrective dependent resurvey of certain sections, the dependent resurvey of portions of the subdivisional lines, and the survey of the subdivision of sections 9 and 10, Township 46 North, Range 60 West, Sixth Principal Meridian, Wyoming, Group No. 918, was accepted February 11, 2016.

The plat and field notes representing the dependent resurvey of portions of the subdivisional lines and the survey of the subdivision of sections 3, 4 and 8, Township 14 North, Range 88 West, Sixth Principal Meridian, Wyoming, Group No. 923, was accepted February 11, 2016.

The plat and field notes representing the dependent resurvey of portions of the east boundary, subdivisional lines, and subdivision of section 24, Township 21 North, Range 88 West, Sixth Principal Meridian, Wyoming, Group No. 922, was accepted March 16, 2016.

Copies of the preceding described plats and field notes are available to the public at a cost of $4.20 per plat and $.13 per page of field notes.

Dated: August 10, 2016.
John P. Lee,
Chief Cadastral Surveyor, Division of Support Services.

[FR Doc. 2016-19482 Filed 8-15-16; 8:45 am]

BILLING CODE 4310-22-P